DEPARTMENT OF EDUCATION

[Docket No.: ED-2023-SCC-0217]

Agency Information Collection Activities; Submission to the Office of Management and Budget for Review and Approval; Comment Request; Comprehensive Literacy Program Evaluation: Comprehensive Literacy State Development (CLSD) Program Evaluation

AGENCY: Institute of Education Sciences, Department of Education (ED).

ACTION: Notice.

SUMMARY: In accordance with the Paperwork Reduction Act (PRA) of 1995, the Department is proposing an extension without change of a currently approved information collection request (ICR).

DATES: Interested persons are invited to submit comments on or before March 27, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Tracy Rimdzius, 202-453-7403.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Comprehensive Literacy Program Evaluation: Comprehensive Literacy State Development (CLSD) Program Evaluation

OMB Control Number: 1850-0945.

Type of Review: An extension without change of a currently approved ICR.

Respondents/Affected Public: Individuals and Households; State, Local, and Tribal Governments.

Total Estimated Number of Annual Responses: 612.

Total Estimated Number of Annual Burden Hours: 331.

Abstract: The Institute of Education Sciences within the U.S. Department of Education requests an extension of the Comprehensive Literacy Program Evaluation: Comprehensive Literacy State Development Grant Program (1850-0945, approved on February 26, 2021). The extension is to complete the collection of state administrative data. The extension is needed because the state administrative data for the 2022-23 school year will not be ready to collect prior to the February 29, 2024 expiration date in all 13 CLSD grantee states. No material change in the collection instrument, instructions, frequency of collection, or use of information is being requested.

The Comprehensive Literacy State Development (CLSD) Program Evaluation was mandated by Congress. The CLSD evaluation includes an examination of implementation, a randomized trial to estimate the impact of CLSD funding on teacher and student outcomes, and a longitudinal comparison of trends in achievement in CLSD and similar, non-CLSD schools. With the exception of the state administrative data collection—for which this extension is being requested—all other data collection for the study previously approved (including state interviews, district, school leader, and teacher surveys) have been completed.

Dated: February 21, 2024.
Juliana Pearson,
PRA Coordinator, Strategic Collections and Clearance Governance and Strategy Division, Office of Chief Data Officer, Office of Planning, Evaluation and Policy Development.

[FR Doc. 2024-03852 Filed 2-23-24; 8:45 am]

BILLING CODE 4000-01-P